DEPARTMENT OF COMMERCE

[Economic Development Administration

Notice of National Advisory Council on Innovation and Entrepreneurship Meeting

AGENCY: Economic Development Administration.

ACTION: Notice of an open meeting.

SUMMARY: The National Advisory Council on Innovation and Entrepreneurship (NACIE) will hold a public meeting on Thursday, October 6, 2016, and on Friday, October 7, 2016. During the meeting, NACIE will cover the following agenda topics: administrative briefs, newly-elected NACIE co-chairs, member introductions, and a NACIE Design Thinking Workshop. The Thursday portion of the meeting will take place at the U.S. Department of Commerce at 1401 Constitution Ave. NW., Washington, DC 20230, and the Friday portion of the meeting will take place at the U.S. Office of Personnel Management Innovation Lab at 1900 E St. NW., Washington, DC 20415.

DATES:

Thursday, October 6, 2016: 2:00 p.m.-3:40 p.m.; 4:30 p.m.-5:45 p.m. Eastern Time (ET)

Friday, October 7, 2016: 8:30 a.m.-12:00 p.m. ET

Pre-clearance is required to attend the meeting in person. Pre-registration is required to comment during the public comment portion of the meeting; each commenter will be limited to no more than five minutes. If you wish to attend the meeting in person or to comment, you must notify Julie Lenzer (see contact information below) no later than 11:59 p.m. ET on October 3, 2016.

ADDRESSES:

Thursday, October 6, 2016: U.S. Department of Commerce, Herbert Clark Hoover Building, 1401 Constitution Ave. NW., Washington, DC 20230.

Friday, October 7, 2016: U.S. Office of Personnel Management Innovation Lab, 1900 E St. NW., Washington, DC 20415.

Those unable to attend the meeting in person but wishing to listen to the proceedings can do so through a conference call line: 888-913-8645, passcode: 4026802

SUPPLEMENTARY INFORMATION: The Council was chartered on November 10, 2009, to advise the Secretary of Commerce on matters related to innovation and entrepreneurship in the United States. NACIE's overarching focus is recommending transformational policies to the Secretary that will help U.S. communities, businesses, and the workforce become more globally competitive. The Council operates as an independent entity within the Office of Innovation and Entrepreneurship (OIE), which is housed within the U.S. Commerce Department's Economic Development Administration. NACIE members are a diverse and dynamic group of successful entrepreneurs, innovators, and investors, as well as leaders from nonprofit organizations and academia.

The purpose of this initial meeting of the third term of NACIE is to discuss its planned initiatives in three focus areas: Workforce/talent, entrepreneurship, and innovation. The final agenda will be posted on the NACIE Web site at http://www.eda.gov/oie/nacie/ prior to the meeting. Any member of the public may submit pertinent questions and comments concerning the Council's affairs at any time before or after the meeting. Comments may be submitted to the Office of Innovation and Entrepreneurship at the contact information below. Copies of the meeting minutes will be available by request within 90 days of the meeting date.

FOR FURTHER INFORMATION CONTACT: Julie Lenzer, Office of Innovation and Entrepreneurship, Room 78018, 1401 Constitution Ave. NW., Washington, DC 20230; email: nacie@doc.gov; telephone: +1 202 482 8001; facsimile: +1 202 273 4781. Please reference “NACIE October 6-7, 2016” in the subject line of your correspondence.

Dated: September 22, 2016.
Julie Lenzer,
Director, Office of Innovation and Entrepreneurship.

[FR Doc. 2016-23380 Filed 9-27-16; 8:45 am]

BILLING CODE 3510-WH-P